DEPARTMENT OF EDUCATION

Applications for New Awards; Fund for the Improvement of Postsecondary Education—Supplemental Assistance to Institutions of Higher Education (SAIHE)

AGENCY: Office of Postsecondary Education, Department of Education.

ACTION: Notice.

SUMMARY: The Department of Education (Department) is issuing a notice announcing the availability of funds and the application deadline for new grants to institutions of higher education (institutions) under the Higher Education Emergency Relief Fund, Supplemental Assistance to Institutions of Higher Education (SAIHE), Assistance Listing Number (ALN) 84.425S, under the Coronavirus Response and Relief Supplemental Appropriations Act, 2021 (CRRSAA). The SAIHE program supports institutions of higher education (IHEs) with unmet needs related to recovery from disruptions in the finances, day-to-day operations, instruction, and student supports due to coronavirus.

DATES:

Applications Available: March 29, 2021.

Deadline for Transmittal of Applications: April 28, 2021.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Karen Epps, U.S. Department of Education, 400 Maryland Avenue SW, Room 2B133, Washington, DC 20202. Telephone: (202) 377-3711. Email: HEERF@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The SAIHE program supports IHEs that the Secretary determines, after allocating funds under section 314(a) of the CRRSAA, have unmet needs related to coronavirus.

Background: On December 27, 2020, the Coronavirus Response and Relief Supplemental Appropriations Act, 2021 (CRRSAA), division M of), Public Law 116-260, was signed into law. Section 314(a)(3) of CRRSAA provides 0.5 percent, or approximately $113.5 million, of a portion of the Education Stabilization Fund for part B of title VII of the Higher Education Act of 1965 (HEA), as amended, for public and private nonprofit institutions of higher education that the Secretary determines have, after allocating other funds available under CRRSAA HEERF, the greatest unmet needs related to coronavirus, including institutions with large populations of graduate students and institutions that did not otherwise receive an allocation under CRRSAA. We note that, while proprietary institutions were eligible for grants under CARES Act section 18004(a)(1), they are not considered an eligible institution under this program as eligibility is limited under CRRSAA section 314(a)(3) to those institutions that are eligible under part B of title VII of the HEA.

Therefore, to determine the types of institutions that would be funded under the statutory focus of “greatest unmet needs related to coronavirus,” the Department published a notice on February 25, 2021,¹ that announced the Department's proposed institutional eligibility criteria for the SAIHE program and invited public comment.

¹ https://www2.ed.gov/about/offices/list/ope/heerfiieligibilitymemo.pdf.

The Department accepted public comments from February 25, 2021 through March 8, 2021. The Department received comments from fourteen entities representing institutions of higher education and trade organizations. Of the comments received, many of the comments supported funding for Minority Serving Institutions (MSIs), especially those IHEs not included in the MSI, Strengthening Institutions Program (SIP) allocation tables. Additionally, while there was a positive response with the criteria included in the notice, many of the commentors further noted the importance of including institutions serving low-income and diverse populations. Also, some of the commenters requested funding to support institutions serving high graduate populations. The Department also received comments that requested funding for institutions that serve high populations of students with financial needs, including institutions in rural areas, citing the limited resources and economic challenges for students. There was also a comment to place emphasis on trade schools, apprenticeships, and training programs.

Therefore, after reviewing the comments received and discussions with several organizations representing institutions of higher education, the Department believes that the types of IHEs highlighted under each absolute priority capture the intent of CRRSAA 314 (a)(3). The groups of IHEs that the Department has categorized as meeting the statutory focus of having additional needs related to institutional and student costs associated with coronavirus are described under each priority. This notice establishes the eligibility requirements an institution must meet to be funded under one of the seven absolute priorities.

Under Absolute Priority 1, the Department will provide funding to institutions that were not designated as eligible under the HEA, as amended, title III and V programs at the time that the Department allocated funds under CRRSAA section 314(a)(2)—Minority Serving Institution (MSI)/Strengthening Institutions Program (SIP)—but that were subsequently designated as eligible for FY 2021.

Under Absolute Priority 2, the Department will provide funding to institutions that were eligible to receive funding under CRRSAA section 314(a)(1) (public and nonprofit IHEs participating in the title IV program) but did not receive an award because they did not report student data in the 2018/19 Integrated Postsecondary Education Data System (IPEDS) data collection, which was the data used in calculating the formula awards for CRRSAA section 314(a)(1).

Under Absolute Priority 3, the Department will provide funding to institutions that were eligible to receive funding under section 18004(a)(1) of the Coronavirus Aid, Relief, and Economic Security Act (CARES Act), but did not receive an award because the applicant did not apply by the deadline, resulting from unsuccessful attempts to apply, or because the applicant failed to submit a complete application under the correct grants.gov funding opportunity number. The Department will not accept applications from IHEs that we cannot verify have previously attempted to apply through grants.gov for a section 18004(a)(1) grant.

Under Absolute Priority 4, the Department will fund branch campuses designated as eligible under titles III and V of the HEA (according to the FY 2021 Eligibility Matrix) but were not funded through CRRSAA section 314(a)(2) either directly or through their parent institutions because the Department did not have the requisite data to calculate their allocations.

Under Absolute Priority 5, the Department seeks to fund institutions that can demonstrate that, because their institution merged after December 27, 2020 (the date CRRSAA was enacted) or had a recent change in HEA title IV Program Participation Agreement (PPA) effective date resulting in the institution being underfunded due to the formula methodology used to calculate allocations under CRRSAA section 314(a)(1).

Under Absolute Priority 6, the Department invites applications from community colleges and institutions of higher education located in rural settings that serve a high percentage of low-income students and have experienced significant enrollment declines, indicating particularly acute institutional needs. According to the Pell Institute for the Study of Opportunity of Higher Education, “the lowest income students in the United States face great obstacles paying for college and the impact of the COVID-19 epidemic may compound the uncertainty such students face. . .”.² Under this priority, the Department has set two minimum thresholds for these institutions, both of which must be met: (1) Fifty percent or more of undergraduate students enrolled in Fall 2018 were Pell Grant recipients (this will ensure that funds awarded under this priority are targeted to institutions that serve a high percent of low-income students); and (2) a 4.5 percent or more decline in student enrollment (this will help to identify the IHEs that should be considered as having unmet need). According to recent reports,³ several IHEs are experiencing significant declines in enrollment because of the pandemic; this is especially true at rural community colleges. According to a recently published report by the Association of Community College Trustees, “Strengthening Rural Community College: Innovations and Opportunities,” the coronavirus has exacerbated some of the social and economic challenges facing many rural communities, negatively impacting rural community colleges ⁴ and the students they serve. Therefore, the Department is also using this priority to target rural community colleges. Through this priority, the Department seeks to make awards to IHEs that meet the criteria set forth in absolute priority 6 to get additional financial aid to students to support their continued engagement and reengagement in postsecondary education.

² http://pellinstitute.org/indicators/reports_2020.shtml.

³ https://nscresearchcenter.org/wp-content/uploads/Covid19-TransferMobilityProgress-FinalFall2020.pdf.

⁴ Rush-Marlowe, R. (2021). Strengthening Rural Community Colleges: Innovations and Opportunities. Washington, DC Association of Community College Trustees. This paper may only be reproduced or disseminated, in whole or in part, with proper attribution and within terms of this Creative Commons license for noncommercial use: https://creativecommons.org/licenses/by-nc/3.0/us/.

Finally, the Department is establishing priority 7, to provide additional support to institutions with high percentages of graduate students. Congress specified in CRRSAA section 314(a)(3) that, in allocating funds to institutions with the greatest unmet need due to the coronavirus, the Department should consider institutions with large populations of graduate students. Accordingly, under this priority, the Department is awarding funds to eligible institutions for which graduate students are 90 percent or more of their student population. This threshold of 90 percent reflects the Department's goal of targeting funds to institutions with large graduate populations since the weighting of the main CRRSSA formula toward Pell recipients meant that these institutions did not receive particularly large awards relative to the size of their student body. However, because some standalone graduate schools may have small undergraduate offerings, we have chosen 90 percent as a threshold to ensure we do not exclude a college that is primarily a graduate institution with a limited amount of non-graduate programs.

Priorities: This notice contains seven absolute priorities. We are establishing these priorities for fiscal year (FY) 2021 grant competitions and any subsequent year in which we make awards from the list of unfunded applications from this competition, in accordance with section 437(d)(1) of the General Education Provisions Act (GEPA), 20 U.S.C. 1232(d)(1).

Absolute Priorities: These priorities are absolute priorities. Under 34 CFR 75.105(c)(3), we consider only applications that meet one of these priorities.

The Secretary intends to award grants under each of the absolute priorities. Applicants must clearly identify the specific absolute priority that the proposed project addresses in the SAIHE Program Profile Information Form. Each applicant may submit only one application under this competition that addresses one absolute priority.

In selecting grantees across Absolute Priorities 1-7, the Department will fund each applicant according to the absolute priority for which it is applying. The allocation formula used for allocating funds will be specific to each priority. Depending on the number of applications received for each of the priorities, the Department may prioritize one priority over another and may reduce funding across all priorities to fund the maximum number of applicants.

In calculating award amounts under each priority, the Department will apply the following:

For Absolute Priorities 1 and 4, the funds will be allocated based on the formula methodology that was used to calculate CRRSAA section 314(a)(2) MSI/SIP allocations (available at https://www2.ed.gov/about/offices/list/ope/heerfiia2methodology.pdf).

For Absolute Priorities 2 and 5, the funds will be allocated based on the formula methodology that was used for CRRSAA section 314(a)(1) (available at https://www2.ed.gov/about/offices/list/ope/314a1methodologyheerfii.pdf), while incorporating the data provided in the SAIHE Program Profile Information Form under these absolute priorities. In addition to the formula for Absolute Priority 5, the Department will take into account any funds already received under CRRSAA section 314(a)(1) by the institution.

For Absolute Priority 3, the funds will be allocated based on the amount an applicant would have received based on the formula methodology for CARES Act section 18004(a)(1) (available at https://www2.ed.gov/about/offices/list/ope/heerf90percentformulaallocationexplanation.pdf).

For Absolute Priority 6, awards for applicants under this absolute priority will be based on the number of Pell Grant recipients the institution serves. The per Pell recipient amount will be established after the Department receives all the applications under this priority.

For Absolute Priority 7, the Department will use the number of graduate students enrolled at the institution as reported on the SAIHE Program Profile Information Form to calculate the allocation.

Note: Those institutions that are applying under absolute priority 1 or 4, should ensure that they have completed the FY 2021 eligibility process under parts A and F of title III and title V of the HEA, as published in a notice in the Federal Register on March 4, 2021 (86 FR 12665).

These priorities are:

Absolute Priority 1—Minority Serving Institutions (MSI) and Strengthening Institutions Program (SIP) Institutions That Did Not Receive CRRSAA Section 314(a)(2) Award

An institution that meets the eligibility requirements in FY 2021 for HEA Title III and Title V for any of the MSI programs or SIP and did not receive any funds under CRRSAA section 314(a)(2) of the CRRSAA (ALNs 84.425J, 84.425K, 84.425L, or 84.425M) because it was not eligible in FY 2020 and have not otherwise received funding under CRRSAA section 314(a)(2). An IHE must demonstrate that it meets the eligibility requirements for FY 2021 for HEA Title III or Title V as published in a notice in the Federal Register on March 4, 2021 (86 FR 12665) by completing Section 5 of the Program Profile Information Form for this absolute priority.

Absolute Priority 2—Institutions of Higher Education Eligible Under Section 314(a)(1) of the CRRSAA That Did Not Receive CRRSAA Section 314(a)(1) Award

An institution that did not receive funds under the CRRSAA section 314(a)(1) student aid portion or section 314(a)(1) institutional portion (HEERF II) programs (ALNs 84.425E and 84.425F) because it was not included in the IPEDS data collection that was used to allocate awards, but otherwise is eligible, Title IV-participating IHE on or after December 27, 2020 as indicated by their PPA effective date. An institution funded under this absolute priority must expend their SAIHE funds in the same manner as required under the CRRSAA (HEERF II) section 314(a)(1) program (i.e., institutions must spend at least the amount received under the CARES Act section 18004(a)(1) student portion for financial aid grants to students, or, if not funded under the CARES Act, must spend at least 50 percent of funds on grants to students). An IHE must complete Section 5 of the Program Profile Information Form for this absolute priority.

Absolute Priority 3—Applicants for Assistance Under Section 18004(a)(1) of the CARES Act That Did Not Receive CARES Act Section 18004(a)(1) Award

A public or private non-profit institution that was eligible to receive funding under CARES Act (HEERF I) section 18004(a)(1) and did not receive funding under one or both of the CARES Act (HEERF I) section 18004(a)(1) student aid portion or section 18004(a)(1) institutional portion programs (ALNs 84.425E and 84.425F) due to missing the application deadline, which resulted from an unsuccessful previous attempt to apply for funding, an incomplete application, or an application submitted under an incorrect funding opportunity number. An institution funded under this category must expend the SAIHE award in the same manner as required under CARES Act (HEERF I) section 18004(a)(1) programs. An IHE must complete Section 5 of the Program Profile Information Form for this absolute priority.

Absolute Priority 4—Minority Serving Institution Branch Campuses That Did Not Receive CRRSAA Section 314(a)(2) Award

An institution that is a branch campus that was designated through the FY 2021 Titles II and V Eligibility process ⁵ as meeting MSI or SIP criteria but did not, either independently or through the parent institution, receive CRRSAA section 314(a)(2) funding, and the parent institution did not qualify under Absolute Priority 1. An IHE must complete Section 5 of the Program Profile Information Form for this absolute priority.

⁵ https://www2.ed.gov/about/offices/list/ope/idues/eligibility.html.

Absolute Priority 5—Institutions of Higher Education That Merged After CRRSAA, or Whose PPA Effective Date Resulted in the Institution Being Underfunded due to the Formula Methodology Used for Allocation Under CRRSAA Section 314(a)(1)

An institution that received a CRRSAA section 314(a)(1) allocation that did not reflect the institution's total student enrollment or Pell recipients because of either (1) an institutional merger that was not captured in its CRRSAA section 314(a)(1) allocation or (2) had a recent change in HEA title IV Program Participation Agreement (PPA) effective date resulting in the institution being underfunded due to the formula methodology used to calculate allocations under CRRSAA section 314(a)(1). An institution funded under this priority must use at least 50 percent of SAIHE award for financial aid grants to students. An IHE must complete Section 5 of the Program Profile Information Form for this absolute priority.

Absolute Priority 6—Institutions of Higher Education That Serve a High Percent of Students With Financial Need and Have Experienced Declining Enrollment

Institutions that—

(a) Have—

(1) Experienced a decrease in student enrollment of 4.5 percent or more between Fall 2019 and Fall 2020; and

(2) Had a total student undergraduate enrollment in Fall 2019 of which 50 percent or more are Pell Grant recipients; and

(b) Are one or both of—

(1) A community college (as defined in this notice); or

(2) Located in a rural campus setting.

Note: The following campus settings will be considered rural: Town-Fringe, Town-Distant, Town-Remote, Rural Fringe, Rural-Distant, Rural-Remote, as defined by the National Center for Education Statistics (NCES) College Navigator search tool. Applicants may look up individual campus locale settings at: https://nces.ed.gov/collegenavigator/.

An institution funded under this priority must use the funds awarded for financial aid grants to students, including students needing financial assistance to reenroll.

In making awards under this priority, the Department will give priority to eligible applicants in the following order: Tier 1: Community colleges in rural locale settings; Tier 2: Community colleges not in rural locale settings; and Tier 3: Other public and private nonprofit institutions of higher education in rural locale settings. Depending on the funds available for this absolute priority, some applicants may not be funded based on tier rankings. An IHE must complete Section 5 of the Program Profile Information Form for this absolute priority.

Absolute Priority 7—Institutions With a Large Graduate Student Population

A public or private non-profit institution in which graduate students make up 90 percent or more of total enrollment. An institution funded under this priority must use funds awarded for financial aid grants to graduate students with financial need associated with the coronavirus (e.g., loss of employment, decreased wages, childcare). An IHE must complete Section 5 of the Program Profile Information Form for this absolute priority.

Definitions: For fiscal year (FY) 2021 grant competitions and any subsequent year in which we make awards from the list of unfunded applications from this competition, we are establishing the definition of “community college” and “Minority Serving Institution,” in accordance with section 437(d)(1) of GEPA, 20 U.S.C. 1232(d)(1).

Community college means an institution that meets the definition in section 312(f) of the HEA (20 U.S.C. 1058(f)) or an IHE (as defined in section 101 of the HEA) that awards degrees and certificates, more than 50 percent of which are not bachelor's degrees (or an equivalent) or master's, professional, or other advanced degrees.

Minority-Serving Institution means an institution that is eligible to receive assistance under sections 316 through 320 of part A of title III, under part B of title III, or under title V of the HEA.

Waiver of Proposed Rulemaking: Under the Administrative Procedure Act (5 U.S.C. 553), the Department generally offers interested parties the opportunity to comment on proposed priorities and definitions. Section 437(d)(1) of GEPA, however, allows the Secretary to exempt from rulemaking requirements regulations governing the first grant competition under a new or substantially revised program authority. This is the first grant competition for this program under section 314(a)(3) of CRRSAA, and therefore qualifies for this exemption. To ensure timely grant awards, the Secretary has decided to forgo public comment on the priorities and definitions under section 437(d)(1) of GEPA.

Program Authority: The Coronavirus Response and Relief Supplemental Appropriations Act, 2021 (CRRSAA), Division M of Public Law 116-260.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $113,485,680.

Estimated Range of Awards: The range of awards will depend on the absolute priority for which an institution is applying. See the Absolute Priorities section of this notice for more information. For any of the absolute priorities included in this notice, should the Department receive more applications than it has available funding under CRRSAA section 314(a)(3), the Department reserves the right to make ratable reductions for any of the allocations under any of the absolute priorities. For Absolute Priority 6, the Department may not fund all eligible applications, and will prioritized by tier.

Project Period: Up to 12 months.

Note: The Department is not bound by any estimates in this notice.

III. Eligibility Information

1. Eligible Applicants: Eligible applicants are IHEs as defined in section 101 of the HEA (20 U.S.C. 1001), that are public or private non-profit IHEs and meet the criteria under the absolute priority for which they are applying. With the exception of Absolute Priority 4, institutional eligibility is based on the six-digit OPEID.

2. Cost Sharing or Matching: This program does not require cost sharing or matching.

3. Subgrantees: Subgrants are not allowed under this program.

4. Uses of Funds: Unless noted otherwise in this notice, in accordance with section 314(c) of the CRRSAA, grantees may use these grant funds for their institutional costs to defray expenses associated with coronavirus (including lost revenue, reimbursement for expenses already incurred, technology costs associated with a transition to distance education, faculty and staff trainings, and payroll); carry out student support activities authorized by the HEA that address needs related to coronavirus; and make additional financial grants to students, which may be used for any component of the student's cost of attendance or for emergency costs that arise due to coronavirus, such as tuition, food, housing, health care (including mental health care), or child care.

IV. Application and Submission Information

1. Application Submission Instructions: For information on how to submit an application please refer to our Common Instructions for Applicants to Department of Education Discretionary Grant Programs, published in the Federal Register on February 12, 2018 (83 FR 6003), and available at www.gpo.gov/fdsys/pkg/FR-2018-02-12/pdf/2018-02558.pdf.

2. Intergovernmental Review: This competition is subject to Executive Order 12372 and the regulations in 34 CFR part 79. However, under 34 CFR 79.8(a), we waive intergovernmental review in order to make awards in a timely manner.

3. Funding Restrictions: We reference regulations outlining funding restrictions in the Applicable Regulations section of this notice. Additionally, no funds received by an IHE under this section shall be used to fund contractors for the provision of pre-enrollment recruitment activities; marketing or recruitment; endowments; capital outlays associated with facilities related to athletics, sectarian instruction, or religious worship; senior administrator or executive salaries, benefits, bonuses, contracts, incentives; stock buybacks, shareholder dividends, capital distributions, and stock options; or any other cash or other benefit for a senior administrator or executive.

4. Recommended Page Limit: There is a 10-page recommended page limit. The application for this program includes the Standard form 424, the Certificate and Agreement, and the SAIHE Program Profile. If you wish to include any additional documents, those documents should be included under the other attachments form. The project narrative form in grants.gov is where you, the applicant, will include the Certificate and Agreement for this program and the SAIHE Program Profile.

5. Program Profile: Applicants must complete the program profile and submit under the program narrative form in grants.gov.

V. Application Review Information

1. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For this competition, the Department has waived the peer review process for this program. Department staff will review eligible applications using the absolute priority criteria provided in this notice.

2. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, the individuals listed as the Authorizing Representative and Director will receive a Grant Award Notification (GAN); or we may send you an email containing a link to access an electronic version of your GAN.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: Reporting requirements are specified in each program's Certification and Agreement or Supplemental Agreement.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Michelle Asha Cooper,
Acting Assistant Secretary for Postsecondary Education.

[FR Doc. 2021-06527 Filed 3-26-21; 8:45 am]

BILLING CODE 4000-01-P